DEPARTMENT OF ENERGY

Federal Energy Regulatory Commission

[Project No. 2628-066]

Alabama Power Company; Notice of Revised Procedural Schedule for Environmental Impact Statement for the Proposed Project Relicense

On November 23, 2021, the Alabama Power Company filed an application for a new major license for the 135-megawatt R.L. Harris Hydroelectric Project No. 2628 (Harris Project or project). On March 31, 2023, Commission staff issued a notice of intent to prepare an Environmental Impact Statement (EIS) to evaluate the effects of relicensing the Harris Project. The notice of intent included a schedule for preparing a draft and final EIS.

By this notice, Commission staff is updating the procedural schedule for completing the EIS. The revised schedule is shown below. Further revisions to the schedule may be made as appropriate.

Milestone | Target date
Issue draft EIS | July 2024.¹
Public Meeting on draft EIS | August 2024.
Comments on draft EIS due | September 2024.
Commission issues final EIS | March 2025.

Any questions regarding this notice may be directed to Sarah Salazar at (202) 502-6863 or sarah.salazar@ferc.gov.

¹ The Council on Environmental Quality's (CEQ) regulations under 40 CFR 1501.10(b)(2) (2023) require that EISs be completed within 2 years of the federal action agency's decision to prepare an EIS. See also National Environmental Policy Act, 42 U.S.C. 4321 et seq., amended by section 107(g)(1)(A)(iii) of the Fiscal Responsibility Act of 2023, Public Law 118-5, 4336a, 137 Stat. 42.

Dated: April 18, 2024.
Debbie-Anne A. Reese,
Acting Secretary.

[FR Doc. 2024-08777 Filed 4-23-24; 8:45 am]

BILLING CODE 6717-01-P